ENVIRONMENTAL PROTECTION AGENCY

[EPA-HQ-OAR-2007-0286; FRL-8463-9]

Agency Information Collection Activities; Submission to OMB for Review and Approval; Comment Request; EPA's In-Use Vehicle and Engine Testing Programs; EPA ICR No. 0222.08, OMB Control No. 2060-0086

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 9, 2007.

ADDRESSES: Submit your comments, referencing Docket ID No. EPA-HQ-OAR-2007-0286, to (1) EPA online using www.regulations.gov (our preferred method), or by mail to: EPA Docket Center, Environmental Protection Agency, Air and Radiation Docket, Mailcode 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lynn Sohacki, Compliance and Innovative Strategies Division, Office of Transportation and Air Quality, Environmental Protection Agency, 2000 Traverwood, Ann Arbor, Michigan 48105; telephone number: 734-214-4851; fax number: 734-214-4869; e-mail address: sohacki.lynn@epa.gov.

SUPPLEMENTARY INFORMATION: EPA has submitted the following ICR to OMB for review and approval according to the procedures prescribed in 5 CFR 1320.12. On April 20, 2007 (72 FR 19925), EPA sought comments on this ICR pursuant to 5 CFR 1320.8(d). EPA received no comments. Any additional comments on this ICR should be submitted to EPA and OMB within 30 days of this notice.

EPA has established a public docket for this ICR under Docket ID No. EPA-HQ-OAR-2007-0286, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: EPA's In-Use Vehicle and Engine Testing Programs.

ICR numbers: EPA ICR No. 0222.08, OMB Control No. 2060-0086.

ICR Status: This ICR is scheduled to expire on September 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has ongoing programs to evaluate the emission performance of in-use light-duty (passenger car and light truck) motor vehicles, heavy-duty trucks, and nonroad vehicles and engines. These are referred to collectively as EPA's in-use vehicle testing programs. They operate in conjunction with testing of prototype vehicles prior to use (manufacturer and EPA confirmatory testing for certification) and the mandatory manufacturer's in-use testing program (IUVP) for light-duty vehicles. They derive from the Clean Air Act's charge that EPA insure that motor vehicles comply with emissions requirements throughout their useful lives. The primary purpose of the program is information gathering. Nevertheless, EPA can require a recall if it receives information, from whatever source, including in-use testing, that a “substantial number” of any class or category of vehicles or engines, although properly maintained and used, do not conform to the emission standards, when in actual use throughout their useful life.

The program has two components: light-duty, and heavy-duty and nonroad. The light-duty program recruits approximately 50 classes totaling 150 cars and light-trucks for in-use testing, at EPA's testing facility yearly. This total may be supplemented by recruitment for “special investigations” that vary in number but are estimated to total 25 vehicles a year. Participation is strictly voluntary. Potential participants are identified from state vehicle registration records and sent a solicitation letter with a card and envelope that can be returned. Those who indicate a wish to participate are contacted in order for a followup telephone survey until three vehicles are identified. Owners verify the survey information when they deliver their vehicles to EPA, voluntarily provide maintenance records for copying, and receive a loaner car or a cash incentive.

The reporting burden for the heavy-duty and in-use component primarily involves recruiting heavy-duty trucks from operators of fleets. All testing is done by installing portable emissions monitoring devices on the vehicles during a test period at the fleet location or at testing facilities. Some other heavy-duty and non-road engines for testing may be recruited in a similar manner. One hundred and twenty-six heavy-duty vehicles and off-road vehicles and engines were tested in Fiscal Year 2006, the most recent year for which information is available. Again, all participation is strictly voluntary.

These programs are described in greater detail in the Supporting Statement, which is part of the Docket.

Burden Statement: The annual public reporting and recordkeeping burden for this collection of information is estimated to average 0.14 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: individual and fleet owners of motor vehicles and engines.

Estimated Number of Respondents: 4375.

Frequency of Response: once per respondent.

Estimated Total Annual Hour Burden: 619.

Estimated Total Annual Cost: $46,395, including $0 annualized capital or O&M costs.

Changes in the Estimates: There is an increase of 19 hours in the total estimated burden currently identified in the OMB Inventory of Approved ICR Burdens. This increase is due to an updated and more particularized count of in-use testing numbers and to distinguishing between, and recalculating the burdens for, the initial solicitations for participation and subsequent participation in the light-duty program.

Dated: August 29, 2007.
Sara Hisel-McCoy,
Acting Director, Collection Strategies Division.

[FR Doc. E7-17621 Filed 9-5-07; 8:45 am]

BILLING CODE 6560-50-P